DEPARTMENT OF LABOR

Mine Safety and Health Administration

30 CFR Part 62

RIN 1219-AA53

Health Standards for Occupational Noise Exposure; Correction

AGENCY: Mine Safety and Health Administration (MSHA), Labor.

ACTION: Correcting amendment.

SUMMARY: The Mine Safety and Health Administration published in the Federal Register of Monday, September 13, 1999, (64 FR 49548) the final rule relating to the health standards for occupational noise exposure. This document contains a correction to that document.

DATES: Effective on November 8, 2000.

FOR FURTHER INFORMATION CONTACT: Carol J. Jones, Director, Office of Standards, Regulations, and Variances, MSHA, (703) 235-1910 (not a toll-free call).

SUPPLEMENTARY INFORMATION: As published, the final rule contains an error which needs to be corrected.

Accordingly, 30 CFR part 62 is corrected by making the following correcting amendment:

PART 62—OCCUPATIONAL NOISE EXPOSURE

1. The authority citation for part 62 is revised to read as follows:

Authority: 30 U.S.C. 811.

Appendix to Part 62 [Amended]

2. In the Appendix to part 62, in the note to Table 62-1, the formula for T is revised to read as follows:

T = 8/2(L-90)/5

Dated: November 1, 2000.
J. Davitt McAteer,
Assistant Secretary for Mine Safety and Health.

[FR Doc. 00-28586 Filed 11-7-00; 8:45 am]

BILLING CODE 4510-43-P